DEPARTMENT OF COMMERCE

Foreign-Trade Zones Board

[Order No. 1445]

Approval of Export Manufacturing Authority, Within Foreign-Trade Zone 17, Kansas City, Kansas, Cereal Ingredients, Inc., (Food Flavoring Particulates and Mixes)

Pursuant to its authority under the Foreign-Trade Zones Act of June 18, 1934, as amended (19 U.S.C. 81a-81u)(the Act), the Foreign-Trade Zones Board (the Board) adopts the following Order:

Whereas, the Greater Kansas City Foreign Trade Zone, Inc., grantee of FTZ 17, has requested authority under Section 400.32(b)(1) of the Board's regulations on behalf of Cereal Ingredients, Inc., to manufacture food flavoring particulates and mixes under FTZ procedures within FTZ 17 Site 5 for export only (Docket 17-2005, filed 4-26-2005);

Whereas, pursuant to 15 CFR 400.32(b)(1), the Commerce Department's Assistant Secretary for Import Administration has the authority to act for the Board in making such decisions on new manufacturing/processing activity under certain circumstances, including situations where the proposed activity is for export only (§ 400.32(b)(1)(ii));

Whereas, the use of domestic sugar administered under the Refined Sugar Re-Export Program (7 CFR Part 1530) shall be considered to be within the U.S. Customs territory for the purpose of compliance with Section 1530.102(d); and,

Whereas, the FTZ Staff has reviewed the proposal, taking into account the criteria of Section 400.31, and the Executive Secretary has recommended approval, subject to the restriction;

Now, therefore, the Assistant Secretary for Import Administration, acting for the Board pursuant to Section 400.32(b)(1), concurs in the recommendation and hereby approves the request subject to the Act and the Board's regulations, including Section 400.28, and subject to the following restrictions:

1. All foreign-origin dairy products and sugar admitted to the zone for the Cereal Ingredients, Inc., activity must be re-exported; and,

2. All sugar administered by Cereal Ingredients, Inc., as licensee under the Refined Sugar Re-Export Program (7 CFR Part 1530), that is subject to the export requirement within the program guidelines must be exported pursuant to Section 1530.105 of the regulations.

Signed at Washington, DC, this 14th day of April 2006.
David M. Spooner,
Assistant Secretary of Commerce for Import Administration, Alternate Chairman, Foreign-Trade Zones Board.
Attest:
Dennis Puccinelli,
Executive Secretary.

[FR Doc. E6-6215 Filed 4-24-06; 8:45 am]

BILLING CODE 3510-DS-S